DEPARTMENT OF COMMERCE

International Trade Administration

[A-583-816]

Certain Stainless Steel Butt-Weld Pipe Fittings From Taiwan: Extension of Time Limit for Final Results of Antidumping Duty Administrative Review

AGENCY: Import Administration, International Trade Administration, Department of Commerce.

EFFECTIVE DATE: December 16, 2004.

FOR FURTHER INFORMATION CONTACT: Irene Gorelik, AD/CVD Operations, Office 9, Import Administration, International Trade Administration, U.S. Department of Commerce, 14th Street and Constitution Avenue, NW., Washington, DC 20230; telephone (202) 482-6905.

Background

On July 7, 2004, the Department published the preliminary results of the administrative review of the antidumping duty order on stainless steel butt-weld pipe fittings from Taiwan. See Certain Stainless Steel Butt-Weld Pipe Fittings From Taiwan: Preliminary Results of Antidumping Duty Administrative Review and Notice of Intent to Rescind in Part, 69 FR 40859 (July 7, 2004). On October 20, 2004, the Department published an extension of 45 days for the final results of this proceeding. See Certain Stainless Steel Butt-Weld Pipe Fittings from Taiwan: Extension of Time Limit for Final Results of Antidumping Duty Administrative Review, 69 FR 61649 (October 20, 2004). The final results of this administrative review are currently due no later than December 19, 2004.

Extension of Time Limit for Final Results

Section 751(a)(3)(A) of the Act states that if it is not practicable to complete the review within the time specified, the administering authority may extend the 120-day period, following the date of publication of the preliminary results, to issue its final results by an additional 60 days. Completion of the final results within the 120-day period is not practicable because this review involves a complex affiliation issue. The complexity of this issue requires the Department to fully extend the deadline for the completion of the final results by the remaining 15 days of the 60 days allowed by the statute.

Therefore, in accordance with section 751(a)(3)(A) of the Act, the Department is extending the time period for issuing the final results of review by 15 days until no later than January 3, 2005.

Dated: December 10, 2004.
Barbara E. Tillman,
Acting Deputy Assistant Secretary for Import Administration.

[FR Doc. E4-3682 Filed 12-15-04; 8:45 am]

BILLING CODE 3510-DS-P